Title 3—

The President

Presidential Determination No. 2006-11 of February 28, 2006

Export-Import Bank Programs for or in Libya

Memorandum for the Secretary of State

By the authority vested in me as President by the Constitution and laws of the United States of America, including sections 620A and 621 of the Foreign Assistance Act of 1961, as amended (22 U.S.C. 2371 and 2381), section 113 in Division J of the Consolidated Appropriations Act, 2005 (Public Law 108-447):

1. I hereby determine that:

(a) national security interests justify a waiver of the prohibition in subsection (a) of section 620A of the Foreign Assistance Act of 1961 with respect to the provision of assistance under the Export-Import Bank Act of 1945, as amended (12 U.S.C. 635 et seq.), for Libya; and

(b) it is important to the national security interests of the United States that direct loans, credits, insurance, and guarantees of the Export-Import Bank or its agents may be made available for or in Libya, notwithstanding section 507 or similar provisions in the Foreign Operations, Export Financing, and Related Programs Appropriations Act, 2005 (Division D of Public Law 108-447), or prior acts making appropriations for foreign operations, export financing, and related programs.

2. I hereby waive, through the date that is 24 months from the date of this memorandum, the prohibition in subsection (a) of section 620A of the Foreign Assistance Act of 1961 with respect to the provision of assistance under the Export-Import Bank Act of 1945, as amended, for Libya.

3. The function of the President under subsection (d) of section 620A of the Foreign Assistance Act of 1961 is assigned to the Secretary of State, effective on the date that is 22 months from the date of this memorandum, with respect to provision of assistance under the Export-Import Bank Act of 1945, as amended, for Libya.

You are authorized and directed to transmit this determination to the Congress and publish in the Federal Register.

B

THE WHITE HOUSE,

Washington, February 28, 2006.

[FR Doc. 06-2338

Filed 3-8-06; 8:45 am]

Billing code 4710-10-P